DEPARTMENT OF DEFENSE

Office of the Secretary

[Transmittal No. 23-02]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-02, Policy Justification, and Sensitivity of Technology.

Dated: September 9, 2024.
Aaron T. Siegel,
Alternate OSD Federal Register Liaison Officer, Department of Defense.

BILLING CODE 6001-FR-P

BILLING CODE 6001-FR-C

Transmittal No. 23-02

Notice of Proposed Issuance of Letter of Offer Pursuant to Section 36(b)(1) of the Arms Export Control Act, as amended

(i) Prospective Purchaser: Government of Australia

(ii) Total Estimated Value:

Major Defense Equipment * | $526 million
Other | $369 million
TOTAL | $895 million

(iii) Description and Quantity or Quantities of Articles or Services under Consideration for Purchase:

Major Defense Equipment (MDE):

Up to two hundred (200) Tomahawk Block V All Up Rounds (AUR) (RGM-109E)

Up to twenty (20) Tomahawk Block IV All Up Rounds (AUR) (RGM-109E)

Non-MDE:

Also included is support for all three segments of Australia's Tomahawk Weapon System (TWS) to include the All-Up Round (AUR), the Tactical Tomahawk Weapon Control System (TTWCS) and the Theater Mission Planning Center (TMPC). The support consists of unscheduled missile maintenance; spares; procurement; training; in-service support; software; hardware; communication equipment; operational flight test; engineering and technical expertise to maintain the TWS capability; and other related elements of logistical and program support.

(iv) Military Department: Navy (AT-P-LGJ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 16, 2023

* As defined in Section 47(6) of the Arms Export Control Act.

POLICY JUSTIFICATION

Australia—Tomahawk Weapon System

The Government of Australia has requested to buy up to two hundred (200) Tomahawk Block V All Up Rounds (AUR) (RGM-109E); and up to twenty (20) Tomahawk Block IV All Up Rounds (AUR) (RGM-109E). Also included is support for all three segments of Australia's Tomahawk Weapon System (TWS) to include the All-Up Round (AUR), the Tactical Tomahawk Weapon Control System (TTWCS) and the Theater Mission Planning Center (TMPC). The support consists of unscheduled missile maintenance; spares; procurement; training; in-service support; software; hardware; communication equipment; operational flight test; engineering and technical expertise to maintain the TWS capability; and other related elements of logistical and program support. The estimated total cost is $895 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to interoperate with U.S. maritime forces and other allied forces as well as its ability to contribute to missions of mutual interest. By deploying the Tomahawk Weapon System, Australia will contribute to global readiness and enhance the capability of U.S. Forces operating alongside them globally. Australia will use the enhanced capability as a deterrent to regional threats and to strengthen its homeland defense. Australia will have no difficulty absorbing this equipment into its armed forces.

The proposed sale of this equipment and support will not alter the basic military balance in the region.

The prime U.S. contractor will be Raytheon Missiles and Defense, Tucson, AZ. There are no known offset agreements proposed in connection with this potential sale.

Implementation of this proposed sale will require multiple trips by U.S. Government representatives and contractor personnel to visit Australia on a temporary basis over the life of the case to support delivery and integration of items and to provide supply support management, inventory control, and equipment familiarization. Visits will also include program and technical reviews.

There will be no adverse impact on U.S. defense readiness as a result of this proposed sale.

Transmittal No. 23-02

Notice of Proposed Issuance of Letter of Offer Pursuant to Section 36(b)(1) of the Arms Export Control Act

Annex

Item No. vii

(vii) Sensitivity of Technology:

1. The Block IV/V All Up Round (AUR) consists of the RGM-109E Tomahawk cruise missile assembled in a canister for surface launch. Tomahawk Block IV/V capabilities include, increased system flexibility, improved system response times, improved lethality against an increased target set, improved accuracy, improved Anti-Jam GPS Receiver (AGR) with Selective Availability Anti-Spoofing Module (SAASM) capability, enhanced availability due to a 15-year maintenance interval and two-way communications between missile and Strike/Missile Controllers via Ultra High Frequency (UHF) Satellite Communications (SATCOM). The two-way communication capability, provided by the Satellite Data Link Terminal (SDLT) enables Mission Planners and the Strike/Missile Controller to issue in-flight missile retargeting commands, receive in-flight missile Health & Status (H&S) transmissions, obtain Battle Damage Indication (BDI) data and obtain single-frame Battle Damage Indication Imagery (BDII) using the onboard camera that is part of the Digital Scene Matching Area Correlator (DSMAC) Sensor Assembly (DSA).

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Australia can provide substantially the same degree of protection for the sensitive technology being released as the U.S. Government. This sale is necessary in furtherance of the U.S. foreign policy and national security objectives outlined in the Policy Justification.

5. All defense articles and services listed in this transmittal have been authorized for release and export to Australia.

[FR Doc. 2024-20730 Filed 9-11-24; 8:45 am]

BILLING CODE 6001-FR-P